ENVIRONMENTAL PROTECTION AGENCY

[SWH-FRL-6960-8]

Agency Information Collection Activities: Proposed Collection; Comment Request; Information Collection Request Number 0820.08: Hazardous Waste Generator Standards

AGENCY: Environmental Protection Agency (EPA).

ACTION: Notice.

SUMMARY: In compliance with the Paperwork Reduction Act (44 U.S.C. 3501 et seq.), this notice announces that EPA is planning to submit the following proposed Information Collection Request (ICR) to the Office of Management and Budget (OMB): Hazardous Waste Generator Standards, EPA ICR Number 0820.08, OMB Control Number 2050-0035, current expiration date 9/30/01. Before submitting the ICR to OMB for review and approval, EPA is soliciting comments on specific aspects of the proposed information collection as described below.

DATES: Comments must be submitted on or before June 4, 2001.

ADDRESSES: Commenters must send an original and two copies of their comments referencing docket number F-2001-HG1P-FFFFF to RCRA Docket Information Center, Office of Solid Waste (5305G), U.S. Environmental Protection Agency, Ariel Rios Building, 1200 Pennsylvania Avenue N.W., Washington, DC 20460. Hand deliveries of comments should be made to the Arlington, VA, address listed below. Comments may also be submitted electronically by sending electronic mail through the Internet to: rcra-docket@epamail.epa.gov. Comments in electronic format should also be identified by the docket number F-2001-HG1P-FFFFF. All electronic comments must be submitted as an ASCII file avoiding the use of special characters and any form of encryption.

Public comments and supporting materials are available for viewing in the RCRA Information Center (RIC), located at Crystal Gateway 1, 1235 Jefferson Davis Highway, first floor, Arlington, VA. The RIC is open from 9:00 a.m. to 4:00 p.m., Monday through Friday, excluding federal holidays. To review docket materials, the public must make an appointment by calling 703-603-9230. The public may copy a maximum of 100 pages from any regulatory docket at no charge. Additional copies cost $.15/page.

Copies of the original ICR may be requested from the docket address and phone number listed above or may be found on the Internet. On the Internet, access the main EPA gopher menu and locate the directory: EPA Offices and Regions/Office of Solid Waste and Emergency Response (OSWER)/Office of Solid Waste (RCRA/hazardous waste-RCRA Subtitle C/generators.

Follow these instructions to access the information electronically: http://www.epa.gov/epaoswer/hazwaste/id/icr-gen.htm.

FTP: ftp.epa.gov.

Login: anonymous.

Password: your Internet address.

Path: /pub/epaoswer.

The official record for this action will be kept in paper form. Accordingly, EPA will transfer all comments received electronically into paper form and place them in the official record, which will also include all comments submitted directly in writing. The official record is the paper record maintained in the RCRA Information Center (the RIC address is listed above in this section).

FOR FURTHER INFORMATION CONTACT: For general information, contact the RCRA Hotline at 1-800-424-9346 or TDD 1-800-553-7672 (hearing impaired). In the Washington metropolitan area, call 703-412-9610 or TDD 703-412-3323. For technical information, contact Bryan Groce at 703-308-8750.

SUPPLEMENTARY INFORMATION: Affected entities: Entities potentially affected by this action are generators of hazardous wastes; transporters who commingle wastes with different Department of Transportation descriptions; and importers or exporters of hazardous wastes.

Title: Hazardous Waste Generator Standards (OMB Control No. 2050-0035; EPA ICR No. 0820.07), expiring 9/30/01.

Abstract: In the Resource Conservation and Recovery Act (RCRA), as amended, Congress directed the U.S. Environmental Protection Agency (EPA) to implement a comprehensive program for the safe management of hazardous waste. The core of the national waste management program is the regulation of hazardous waste from generation to transport to treatment and eventual disposal, or from “cradle to grave.” Section 3001(d) of RCRA requires EPA to develop standards for small quantity generators. Section 3002 of RCRA among other things states that EPA shall establish requirements for hazardous waste generators regarding recordkeeping practices. Section 3002 also requires EPA to establish standards on appropriate use of containers by generators.

Finally, section 3017 of RCRA specifies requirements for individuals exporting hazardous waste from the United States, including a notification of the intent to export, and an annual report summarizing the types, quantities, frequency, and ultimate destination of all exported hazardous waste (additional reporting requirements for exporters and importers of recyclable materials are covered under ICR Number 1647.01).

This ICR targets five categories of informational requirements in part 262: hazardous waste determination requirements; pre-transport requirements for both large (LQG) and small (SQG) quantity generators (including the generator pre-transport requirements referenced in 40 CFR part 265), air emission standards requirements for LQGs (referenced in 40 CFR part 265, subparts I and J), recordkeeping and reporting requirements for LQGs and SQGs, and export requirements for LQGs and SQGs (i.e., notification of intent to export and annual reporting).

This collection of information is necessary to help generators and EPA (1) identify and understand the waste streams being generated and the hazards associated with them, (2) determine whether employees have acquired the necessary expertise to perform their jobs, and (3) determine whether LQGs have developed adequate procedures to respond to unplanned sudden or non-sudden releases of hazardous waste or hazardous constituents to air, soil, or surface water. This information is also needed to help EPA determine whether tank systems are operated in a manner that is fully protective of human health and the environment and to ensure that releases to the environment are managed quickly and efficiently.

Additionally, this information contributes to EPA's goal of preventing contamination of the environment from hazardous waste accumulation practices, including contamination from equipment leaks and process vents. Export information is needed to ensure that (1) foreign governments consent to U.S. exported wastes, (2) exported waste is actually managed at facilities listed in the original notifications, and (3) documents are available for compliance audits and enforcement actions. In general, these requirements contribute to EPA's goal of preventing contamination of the environment.

An agency may not conduct or sponsor, and a person is not required to respond to, a collection of information unless it displays a currently valid OMB control number. The OMB control numbers for EPA's regulations are listed in 40 CFR part 9 and 48 CFR Chapter 15.

EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The estimated number of likely respondents under this collection of information is 130,511 (17,581 LQGs and 112,930 SQGs). The bottom line annual reporting and recordkeeping burden to respondents under this collection of information is 475,802 hours. The average annual public reporting burden per response for LQGs under this collection of information is estimated to range from 21 minutes to 32.58 hours, and the average annual public reporting burden per response for SQGs is estimated to range from 21 minutes to 7.2 hours. The average annual recordkeeping burden per response for LQGs under this collection of information is estimated to range from 2.5 hours to 3.15 hours, and the average annual recordkeeping burden per response for SGQs is estimated to range from 1.2 to 1.65 hours. The total average annual burden cost for all generators, collectively is: $26,217,644 in labor costs; $23,892 in capital costs; and $30,396 in annual O&M costs. Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 26, 2001.
Elizabeth Cotsworth,
Director, Office of Solid Waste.

[FR Doc. 01-8129 Filed 4-2-01; 8:45 am]

BILLING CODE 6560-50-P